DEPARTMENT OF STATE

[Public Notice: 10386]

U.S. Department of State Advisory Committee on Private International Law (ACPIL): Public Meeting on Security Interest

The Office of the Assistant Legal Adviser for Private International Law, Department of State, hereby gives notice that the Advisory Committee on Private International Law (ACPIL) will hold a public meeting via teleconference to discuss the next session of the UNCITRAL WG VI (Security Interests). The next meeting of UNCITRAL Working Group VI is scheduled for April 30-May 4, 2018. This public meeting is not a meeting of the full Advisory Committee.

This public meeting will discuss the Draft Practice Guide to the UNCITRAL Model Law on Secured Transactions. The Draft Practice Guide provides guidance to users of the Model Law on Secured Transactions on (1) the types of financing transactions that are possible under the law, (2) how to do a number of common and commercially important types of secured transactions, and (3) how to coordinate between the Law and the State's prudential regulatory framework. Additionally, the Working Group will discuss possible future work. Documents for the session are available at http://www.uncitral.org/uncitral/en/commission/working_groups/6Security_Interests.htl

Time and Place: The public meeting will take place on April 26 from 10 a.m. to 12:30 p.m. EDT, via conference call.

Public Participation: Those planning to participate should email pil@state.gov to obtain the call-in number. The number will not be given out until the afternoon before the public meeting.

Michael J. Dennis,
Attorney-Adviser, Office of Private International Law, Office of the Legal Adviser, Department of State.

[FR Doc. 2018-07457 Filed 4-10-18; 8:45 am]

BILLING CODE 4710-08-P